DEPARTMENT OF THE INTERIOR

Bureau of Land Management

[MT-921-03-1320-EL-P; MTM 92869]

Notice of Invitation—Federal Coal Exploration License Application MTM 92869

AGENCY: Bureau of Land Management, Interior.

ACTION: Notice of invitation.

SUMMARY: Members of the public are hereby invited to participate with Spring Creek Coal Company in a program for the exploration of coal deposits owned by the United States of America in Big Horn County, Montana.

SUPPLEMENTARY INFORMATION: The following-described lands located in Big Horn County, Montana, encompassing 80.00 acres:

T. 8 S., R. 39 E., P. M. M.

Sec. 5: Lot 17

Sec. 9: NW¼SW¼

Any party electing to participate in this exploration program shall notify, in writing, both the State Director, Bureau of Land Management, P.O. Box 36800, Billings, Montana 59107-6800; and Spring Creek Coal Company, P.O. Box 67, Decker, Montana 59025. Such written notice must refer to serial number MTM 92869 and be received no later than November 26, 2003 or 10 calendar days after the last publication of this Notice in the Sheridan Press newspaper, whichever is later. This Notice will be published once a week for two (2) consecutive weeks in the Sheridan Press, Sheridan, Wyoming.

The proposed exploration program is fully described, and will be conducted pursuant to an exploration plan to be approved by the Bureau of Land Management. The exploration plan, as submitted by Spring Creek Coal Company, is available for public inspection at the Bureau of Land Management,5001 Southgate Drive, Billings, Montana, during regular business hours(9 a.m. to 4 p.m.), Monday through Friday.

FOR FURTHER INFORMATION CONTACT: Robert Giovanini, Mining Engineer, or Connie Schaff, Land Law Examiner, Branch of Solid Minerals (MT-921), Bureau of Land Management, Montana State Office, P.O. Box 36800, Billings, Montana 59107-6800, telephone (406) 896-5084 or (406) 896-5060, respectively.

Dated: September 17, 2003.
Randy D. Heuscher,
Chief, Branch of Solid Minerals.

[FR Doc. 03-26999 Filed 10-24-03; 8:45 am]

BILLING CODE 4310-$$-P